DEPARTMENT OF TRANSPORTATION

Federal Aviation Administration

[Docket No: FAA-2005-22842]

Notice of Opportunity: Criteria and Application Procedures for the Military Airport Program (MAP).

AGENCY: Federal Aviation Administration (FAA), Department of Transportation (DOT).

ACTION: Notice of criteria and application procedures.

SUMMARY: This document announces the criteria, application procedures, and schedule to be applied by the Secretary of Transportation to designate a maximum of 15 joint-use or former military airports to participate in the MAP for the purposes of capital development funding assistance.

DATES: Applications must be received no later than June 8, 2018.

ADDRESSES: Submit an original signed Standard Form (SF) 424, “Application for Federal Assistance” (available at: https://www.faa.gov/airports/resources/forms/?sect=aip,payments) along with all supporting documentation. Airport sponsor applicants must specifically request consideration to participate in the Fiscal Year (FY) 2018 MAP. Submission(s) should be sent to the appropriate FAA Regional Airports Division or Airports District Office that serves the airport (sponsor). Applicants can find their local office on the FAA website at: http://www.faa.gov/airports/news_information/contact_info/regional/ or may contact the office listed under the section “For Further Information.”

FOR FURTHER INFORMATION CONTACT: Mr. Jonathan DiMartino (jonathan.dimartino@faa.gov), Airports Financial Assistance Division, Office of Airport Planning and Programming, Federal Aviation Administration, 800 Independence Avenue SW., Washington, DC 20591, (202) 267-8744.

SUPPLEMENTARY INFORMATION:

General Description of the Program

Under 49 U.S.C. 47118, the MAP provides capital development assistance to civilian airport sponsors of designated joint-use military airfields or former military airports that are included in the FAA's National Plan of Integrated Airport Systems (NPIAS). Airport sponsors designated to the MAP may receive set-aside grant funds from the Airport Improvement Program (AIP) (4 percent of discretionary funds) for airport development that will assist the airport sponsor in successfully transitioning the airport from military to civilian use. The MAP is described in detail in FAA Order 5100.38D, Airport Improvement Program (AIP) Handbook.

Number of Airports

As set forth by 49 U.S.C. 47118, a maximum of 15 airports may participate in the MAP at any time. Three of the 15 may be general aviation (GA) airports; the remainder must be commercial service or reliever airports. In FY 2018, there are 12 slots available in the program; however, there are no openings available for GA airports.

Designation Duration

The FAA has the option to designate an airport sponsor for any duration between 1 and 5 fiscal years. The FAA will evaluate the conversion needs of the airport in its capital development plan to determine the appropriate length of designation.

Redesignation Duration

Previously designated airport sponsors may apply for redesignation to the MAP for a period between 1 and 5 fiscal years. Those airport sponsors must meet the current MAP eligibility requirements of 49 U.S.C. 47118(a), at the beginning of each grant period. The FAA will evaluate applications for redesignation primarily in terms of the remaining projects that are specifically fundable only under the MAP because redesignated airports generally have fewer conversion needs than new candidates. The FAA's goal is to gradually transition MAP airports to regular AIP participation by helping these airports successfully convert to civilian airport operations.

MAP Funding Limitations

Designated airport sponsors may receive up to $7 million per fiscal year for terminal projects and up to $7 million for construction, improvement, or repair of fuel farms, utility systems, surface automobile parking lots, hangars, and air cargo terminals that are not larger than 50,000 square feet. Revenue generating projects that may not normally be AIP eligible at the airport may be considered through the MAP to assist in the conversion of a military joint-use or former military facility to civilian use.

Use of Regular AIP on a MAP Designated Airport

MAP designated airport projects are not limited to MAP funding. They may also qualify for other AIP funding if they meet all AIP associated project eligibility and justification requirements.

Designation Requirements

The MAP allows the Secretary of Transportation to designate civilian airport sponsors of joint-use or former military airports (other than an airport so designated before August 24, 1994) to receive grants from the AIP if they meet the following general requirements:

1. The airport is a former military installation closed or realigned under:

a. Section 2687 of 10 U.S.C. (announcement of closures of large Department of Defense (DOD) installations after September 30, 1977);

b. Section 201 of the Defense Authorization Amendments and Base Closure and Realignment Act (BRAC) (10 U.S.C. 2687, note); or

c. Section 2905 of the Defense Base Closure and Realignment Act of 1990 (10 U.S.C. 2687, note).

2. The airport is a military installation with both military and civil aircraft operations.

3. The airport is classified as a commercial service or reliever airport in the NPIAS. (See 49 U.S.C. 47105(b)(2).)

4. In addition, three of the designated airports may be GA airports that were former military installations closed or realigned under BRAC, as amended, or 10 U.S.C. 2687. (See 49 U.S.C. 47118(g).) Therefore, a GA airport can only qualify under requirement 1 of this section. “GA airport” means a public airport that is located in a State that, as determined by the Secretary:

a. does not have scheduled service; or

b. has scheduled passenger service with fewer than 2,500 passenger boardings per year.

Pursuant to 49 U.S.C. 47104(c), in designating new candidate airport sponsors, the Secretary may consider only current or former military airports for designation if a grant would:

1. Reduce delays at an airport with more than 20,000 hours of annual delays in commercial passenger aircraft takeoffs and landings;

2. Enhance airport and air traffic control system capacity in a metropolitan area or reduce current and projected flight delays; or

3. Preserve or enhance minimum airfield infrastructure facilities at former military airports to support emergency diversionary operations for transoceanic flights. (See 49 U.S.C. 47118(c)(3).)

The FAA will evaluate applications for new MAP designations on the basis of how the proposed projects included in the application would contribute to delay reductions and/or how the airport improvements would enhance national and local air traffic or airport system capacity and provide adequate related user services.

Candidate Evaluation

Recently realigned or closed military airports and military airfields with new joint-use agreements generally have the greatest need for funding assistance to transition to civil airport operations. Newly converted airports and new joint-use locations frequently have minimal capital development resources and therefore receive priority consideration for designation and MAP funding. The FAA will evaluate the need for eligible projects based upon information in the airport's 5-year Capital Improvement Plan (CIP) submitted by the airport sponsor and the following specific factors:

1. Compatibility of airport roles and the ability of the airport to provide an adequate airport facility;

2. The capability of the airport to serve aircraft that otherwise must use a congested airport;

3. Landside surface access;

4. Airport operational capability, including peak hour and annual capacities;

5. Potential of other metropolitan area airports to relieve the congested airport;

6. Ability to satisfy, relieve, or meet air cargo demand within the metropolitan area;

7. Forecasted aircraft and passenger levels, type of commercial service anticipated, i.e., scheduled or chartered commercial service;

8. Type and capacity of aircraft projected to serve the airport and level of operations at the congested airport and the candidate airport;

9. The potential for the airport to be served by aircraft or users, including the airlines serving the congested airport;

10. Ability to replace an existing commercial service or reliever airport serving the area; and

11. Any other documentation to support designation of the airport sponsor's candidate airport.

The FAA will evaluate proposed development projects to assess the potential of the airport to become a viable civilian airport that will enhance system capacity or reduce delays.

Application Procedures and Required Documentation

Airport sponsors applying for designation or redesignation to the MAP must complete and submit an SF-424 and provide supporting documentation to the appropriate FAA Regional Airports Division or Airports District Office serving that airport. Airport sponsors may obtain this fillable form from https://www.faa.gov/airports/resources/forms/?sect=aip,-payments. Applicants must fill this form out completely and include the following:

• Item 1 (Type of Submission)—Mark as a “preapplication”;

• Item 2 (Type of Application)—Mark as “New” and in “Other” fill in “Military Airport Program”;

• Item 15 (Descriptive Title of Applicant's Project)—Fill with “designation (or redesignation) to the Military Airport Program”; and

• Item 18.a. (Estimated Funding)—Fill in the total amount of funding requests anticipated from the MAP over the entire term sought in the application.

Supporting Documentation

1. Identification as a joint-use or former military airport. The application must identify the airport sponsor's airport as either a joint-use or former military airport and indicate whether it was:

a. Closed or realigned under section 201 of the BRAC and/or section 2905 of the Defense Base Closure and Realignment Act of 1990 (Installations Approved for Closure by the Defense Base Realignment and Closure Commissions);

b. Closed or realigned pursuant to 10 U.S.C. 2687 as excess property (bases announced for closure by the DOD pursuant to this title after September 30, 1977 (this is the date of announcement for closure)); or

c. A military installation with both military and civil aircraft operations.

2. Qualifications for the MAP. The application must include documentation to answer questions a. through j. below:

a. Does the airport meet the definition of a “public airport” as defined in 49 U.S.C. 47102(21)?

b. Is the required environmental review for civil reuse or joint-use of the military airfield completed?

• The environmental review does not need to include the individual projects to be funded by the MAP.

• The environmental review is necessary to convey the property or enter into a long-term lease, or finalize a joint-use agreement.

• The military department conveying or leasing the property or entering into a joint-use agreement should have the primary responsibility for the environmental review.

c. Does the eligible airport sponsor hold or will hold satisfactory title or a long-term lease (25 years or longer)?

• Documentation that the Federal Government accepted an application for surplus or BRAC airport property is sufficient to meet this requirement.

d. Does the airport sponsor have an existing joint-use agreement with the military department having jurisdiction over the airport?

e. A copy of the existing joint-use agreement must be submitted with the application. Is the airport classified as a “commercial service airport” or a “reliever airport” as defined in 49 U.S.C. 47102(7) and (23)?

f. Is the airport sponsor an eligible airport “sponsor,” as defined in 49 U.S.C. 47102(26)?

g. Does the airport sponsor have a 5-year CIP indicating all eligible grant projects to be funded either from the MAP or from other portions of the AIP?

h. Does the airport have an FAA-approved airport layout plan (ALP)?

i. For commercial service airports, has a business/marketing plan or equivalent been completed?

j. For reliever or GA airports, alternative planning documents may be submitted in lieu of a business/marketing plan.

3. Other Factors. The application should include information on the items below:

a. Identify the existing and potential levels of visual or extra instrument operations and aeronautical activity at the current or former military airport and, if applicable, the congested airport.

b. Explain how the airport contributes to the air traffic system or airport system capacity.

c. Provide the revenue passenger and air cargo levels if commercial air carriers serve the airport.

d. Describe the airport's projected civil role and development needs for transitioning from use as a military airfield to a civil airport. Include how development projects would serve to reduce delays at an airport with more than 20,000 hours of annual delays in commercial passenger aircraft takeoffs and landings, enhance capacity in a metropolitan area, or reduce current and projected flight delays.

e. Describe the existing airspace capacity. Explain how anticipated new operations would affect the surrounding airspace, congestion, and air traffic flow patterns in the metropolitan area in or near the airport.

f. Describe the airport sponsor's 5-year CIP. The CIP must identify the safety, capacity, and conversion related projects, estimated costs, and projected construction schedule.

g. Describe projects that are consistent with the role of the airport and effectively contribute to the joint-use or civil conversion of the airfield. The projects selected (e.g., safety-related, conversion-related, and/or capacity-related) must be identified and fully explained based on the airport sponsor's planned airport use. Each project that may be eligible under MAP must be clearly indicated and include the following information:

Airside

• Planned safety modifications including pavement, marking, lighting, drainage, or other structures or features to meet civil standards for approach, departure, and other protected airport surfaces as described in 14 CFR part 77, or airport design standards set forth in FAA Advisory Circular 150/5300-13A;

• Planned construction of facilities, such as passenger terminal gates, aprons for passenger terminals, taxiways to new terminal facilities, aircraft parking, and cargo facilities to accommodate civil use;

• Planned utility upgrades serving the civilian function and independent operation including: electrical, mechanical, communications lines, water, gas, sewer, storm drainage;

• Planned acquisition, construction, rehabilitation, or modification of facilities and equipment including: snow removal equipment, aircraft rescue and fire fighting facilities and equipment, security equipment, lighting vaults, and reconfiguration or relocation of eligible buildings for more efficient civil airport operations;

• Planned modifications of fuel farms to accommodate civil aviation use;

• Planned acquisition of additional land for runway protection zones, other approach protection, or airport development; and

• Planned modifications, which will permit the airfield to accommodate GA users.

Landside

• Planned construction, improvement, or repair of surface parking areas for passenger and air cargo terminals;

• Planned construction, improvement, or repair of access roads to provide efficient movement of vehicular traffic that leads directly to or from a passenger or air cargo terminal, fixed base operations, and aircraft maintenance areas; or

• Planned construction, improvement, or repair of facilities, such as passenger terminals, hangars, and air cargo terminal buildings.

h. Evaluate the ability of surface transportation facilities (e.g., road, rail, high-speed rail, and/or maritime) to provide intermodal connections.

i. Describe the type and level of aviation (and community) interest in the civil use of the current or former military airport.

j. Provide one copy of the FAA-approved ALP with each application. The ALP must clearly describe capacity and conversion-related projects. Airport sponsors should also include other information, such as: Project cost(s), schedule, project justification(s), other project related maps and drawings showing the project location(s), and any other supporting documentation that would make the airport sponsor's application easier to understand. Airport sponsors may also include photos that further describe the airport, projects, and otherwise clarify certain aspects of the application. These maps and ALPs should be cross-referenced with the project costs and descriptions noted elsewhere in the application.

Redesignation Applications

Airport sponsors applying for redesignation to the MAP must submit the same information required of new candidate airport sponsors. Airport sponsors requesting redesignation must also answer the following questions:

1. Why is a redesignation and additional MAP-eligible project funding needed to accomplish the conversion to a civilian-use airport?

2. What is the preferred time period for redesignation (not to exceed 5 years)?

3. Why would funding of eligible work under other categories of AIP or other sources of funding not accomplish the development needs of the airport?

4. Airport sponsors applying for redesignation must provide a reanalysis of their original business/marketing plans (for example, a plan previously funded by the DOD's Office of Economic Adjustment or the original master plan for the airport) and prepare an updated plan. If no business/marketing plan exists, a business/marketing plan or strategy must be developed. The report must address these questions:

a. Is the airport sponsor continuing to work towards the goals established in the business/marketing plan?

b. How do the MAP projects contained in the application contribute to the goals of the airport sponsor and its plans?

c. If the business/marketing plan no longer applies to the current goals of the airport sponsor, how has the airport sponsor altered the business/marketing plan to establish a new direction for the facility and how do the projects contained in the MAP application aid in the completion of the new direction and goals and by what date does the airport sponsor anticipate graduating from the MAP?

This notice is issued pursuant to 49 U.S.C. 47118. Issued from Washington, DC, on April 4, 2018.
Elliott Black
Director, Office of Airport Planning and Programming.

[FR Doc. 2018-07228 Filed 4-6-18; 8:45 am]

BILLING CODE 4910-13-P